DEPARTMENT OF HEALTH AND HUMAN SERVICES

Administration for Community Living

Announcing the Intent To Award a Single-Source Supplement for the Advancing Person-Centered, Trauma-Informed Supportive Services for Holocaust Survivors Program

The Administration for Community Living (ACL) announces the intent to award a single-source supplement to the current cooperative agreement held by the Jewish Federations of North America for the project Advancing Person-Centered, Trauma-Informed Supportive Services for Holocaust Survivors. The purpose of this project is to, (1) advance the development and expansion of person-centered, trauma-informed (PCTI) supportive services for Holocaust survivors living in the U.S. and, (2) improve the nation's overall capacity to deliver PCTI health and human services for this population and to any older adult with a history of trauma. The administrative supplement for FY 2018 will be in the amount of $2,467,000, bringing the total award for FY 2018 to $4,935,000.

The additional funding will not be used to begin new projects, but to serve more Holocaust survivors with vital supports such as legal assistance, case management, transportation, medication management, social engagement activities designed to reduce isolation, loneliness and depression, and supports for family caregivers, all of which will employ PCTI approaches. The additional funds will also be used to expand existing technical assistance activities, under the second objective, in a variety of ways, including replicating and translating proven models of PCTI developed under this grant; developing new training materials, curricula and partnerships to aid in the replication of PCTI practices; enhance and expand the evaluation activities currently under way; and enhance website capacities for improved information dissemination.

Program Name: Advancing Person-Centered, Trauma-Informed (PCTI) Supportive Services for Holocaust Survivors.

Recipient: The Jewish Federations of North America.

Period of Performance: The supplement award will be issued for the fourth year of the five-year project period of September 30, 2015 through September 29, 2020.

Total Award Amount: $4,935,000 in FY 2018.

Award Type: Cooperative Agreement Supplement.

Statutory Authority: The Older Americans Act (OAA) of 1965, as amended, Public Law 109-365—Title 4, Section 411.

Basis for Award: The Jewish Federations of North America (JFNA) is currently funded to carry out the objectives of this project, entitled Advancing PCTI Supportive Services for Holocaust Survivors for the period of September 30, 2015 through September 29, 2020. Since project implementation began in late 2015, the grantee has accomplished a great deal. The supplement will enable the grantee to carry their work even further, serving more Holocaust survivors and providing even more comprehensive training and technical assistance in the development of PCTI supportive services. The additional funding will not be used to begin new projects or activities.

The JFNA is uniquely positioned to complete the work called for under this project. JFNA and its project partners, including the Network of Jewish Human Services Agencies (NJHSA), and the Conference on Material Claims Against Germany (Claims Conference), have the cultural competence and long history of serving and advocating for Holocaust survivors. Additionally, JFNA is already working in collaboration with numerous partners representing a broad cross section of the Jewish human services network (e.g., Selfhelp Community Services, Bet Tzedek, The Blue Card, and the Orthodox Union of America) and the “mainstream aging services network,” (e.g., Meals on Wheels of America (MoWA), the National Association of Area Agencies on Aging (n4a), the National Council on Aging (NCOA), Leading Age and other members of the Leadership Council of Aging Organizations [LCAO]).

Establishing an entirely new grant project at this time would be potentially disruptive to the current work already well under way. More importantly, the Holocaust survivors currently being served by this project could be negatively impacted by a service disruption, thus posing the risk of re-traumatization and further negative impacts on health and wellbeing. If this supplement were not provided, the project would be less able to address the significant unmet needs of additional Holocaust survivors. Similarly, the project would be unable to expand its current technical assistance and training efforts in PCTI concepts and approaches, let alone reach beyond traditional providers of services to this population to train more “mainstream” providers of aging services.

For More Information Contact: For further information or comments regarding this program supplement, contact Greg Link, U.S. Department of Health and Human Services, Administration for Community Living, Administration on Aging, Office of Supportive and Caregiver Services: telephone (202)-795-7386; email greg.link@acl.hhs.gov.

Dated: April 18, 2018.
Mary Lazare,
Principal Deputy Administrator.

[FR Doc. 2018-08708 Filed 4-25-18; 8:45 am]

BILLING CODE 4154-01-P